DEPARTMENT OF ENERGY

Federal Energy Regulatory Commission

[Project No. 7189-015]

Green Lake Water Power Company; Notice of Waiver Period for Water Quality Certification Application

On May 19, 2023, Green Lake Water Power Company submitted to the Federal Energy Regulatory Commission (Commission) a copy of its application for a Clean Water Act section 401(a)(1) water quality certification filed with the Maine Department of Environmental Protection (Maine DEP), in conjunction with the above captioned project. Pursuant to 40 CFR 121.6 and section 5.23(b) of the Commission's regulations,¹ we hereby notify the Maine DEP of the following:

¹ 18 CFR 5.23(b).

Date of Receipt of the Certification Request: May 19, 2023.

Reasonable Period of Time to Act on the Certification Request: One year, May 19, 2024.

If Maine DEP fails or refuses to act on the water quality certification request on or before the above date, then the agency certifying authority is deemed waived pursuant to section 401(a)(1) of the Clean Water Act, 33 U.S.C. 1341(a)(1).

Dated: May 31, 2023.
Kimberly D. Bose,
Secretary.

[FR Doc. 2023-12075 Filed 6-5-23; 8:45 am]

BILLING CODE 6717-01-P